DEPARTMENT OF ENERGY

Federal Energy Regulatory Commission

[Docket Nos. CP14-347-000; CP14-511-000]

Magnolia LNG, LLC; Kinder Morgan Louisiana Pipeline LLC; Notice of Availability of the Draft Environmental Impact Statement for the Proposed Magnolia LNG and Lake Charles Expansion Projects

The staff of the Federal Energy Regulatory Commission (FERC or Commission) has prepared a draft environmental impact statement (EIS) for the Magnolia LNG Project proposed by Magnolia LNG, LLC (Magnolia) and the Lake Charles Expansion Project proposed by Kinder Morgan Louisiana Pipeline LLC (Kinder Morgan) in the above-referenced dockets. The Magnolia LNG Project would include construction and operation of a liquefied natural gas (LNG) terminal that would include various liquefaction, LNG distribution, and appurtenant facilities. The Lake Charles Expansion Project would include reconfiguration of Kinder Morgan's existing pipeline system in order to accommodate Magnolia's request for natural gas service at the LNG terminal site. The projects would provide an LNG export capacity of 1.08 billion cubic feet per day of natural gas.

The draft EIS assesses the potential environmental effects of construction and operation of the Magnolia LNG and Lake Charles Expansion Projects in accordance with the requirements of the National Environmental Policy Act (NEPA). The FERC staff concludes that approval of the proposed projects would result in limited adverse environmental impacts; however, these impacts would be reduced to less-than-significant levels with the implementation of Magnolia's and Kinder Morgan's proposed mitigation and the additional measures recommended in the draft EIS.

The U.S. Army Corps of Engineers, U.S. Coast Guard, U.S. Department of Energy, U.S. Department of Transportation, and U.S. Environmental Protection Agency participated as cooperating agencies in the preparation of the draft EIS. Cooperating agencies have jurisdiction by law or special expertise with respect to resources potentially affected by a proposal and participate in the NEPA analysis. Although the cooperating agencies provided input on the conclusions and recommendations presented in the draft EIS, the agencies will present their own conclusions and recommendations in their respective records of decision or determinations for the projects.

The draft EIS addresses the potential environmental effects of the construction, modification, and operation of the following facilities associated with the two projects:

• A new LNG terminal that includes three liquefaction trains, two LNG storage tanks, liquefaction and refrigerant units, safety and control systems, and associated infrastructure;

• LNG truck loading facilities;

• LNG carrier and barge loading facilities;

• one new meter station;

• one new 32,000 horsepower compressor station;

• approximately 40 feet of 36-inch-diameter feed gas line to supply natural gas to the LNG terminal from Kinder Morgan's existing natural gas transmission pipeline;

• a new 1.2-mile-long, 36-inch-diameter low pressure natural gas header pipeline;

• a new 700-foot-long, 24-inch-diameter high pressure natural gas header pipeline;

• modifications at six existing meter stations; and

• construction of miscellaneous auxiliary and appurtenant facilities.

The FERC staff mailed copies of the draft EIS to federal, state, and local government representatives and agencies; elected officials; environmental and public interest groups; Native American tribes; potentially affected landowners; other interested individuals and non-governmental organizations; newspapers and libraries in the project area; and parties to these proceedings. Paper copy versions of this EIS were mailed to those specifically requesting them; all others received a compact disk version. In addition, the draft EIS is available for public viewing on the FERC's Web site (www.ferc.gov) using the eLibrary link. A limited number of hardcopies are available for distribution and public inspection at: Federal Energy Regulatory Commission, Public Reference Room, 888 First Street NE., Room 2A, Washington, DC 20426, (202) 502-8371.

Any person wishing to comment on the draft EIS may do so. To ensure consideration of your comments on the proposal in the final EIS, it is important that the Commission receive your comments on or before September 8, 2015.

For your convenience, there are four methods you can use to submit your comments to the Commission. In all instances, please reference the project docket number(s) (CP14-347-000 and CP14-511-000) with your submission. The Commission encourages electronic filing of comments and has expert staff available to assist you at (202) 502-8258 or efiling@ferc.gov.

(1) You can file your comments electronically using the eComment feature on the Commission's Web site (www.ferc.gov) under the link to Documents and Filings. This is an easy method for submitting brief, text-only comments on a project.

(2) You can file your comments electronically by using the eFiling feature on the Commission's Web site (www.ferc.gov) under the link to Documents and Filings. With eFiling, you can provide comments in a variety of formats by attaching them as a file with your submission. New eFiling users must first create an account by clicking on “eRegister.” If you are filing a comment on a particular project, please select “Comment on a Filing” as the filing type.

(3) You can file a paper copy of your comments by mailing them to the following address: Kimberly D. Bose, Secretary, Federal Energy Regulatory Commission, 888 First Street NE., Room 1A, Washington, DC 20426.

(4) In lieu of sending written or electronic comments, the Commission invites you to attend a public comment meeting its staff will conduct in the project area to receive comments on the draft EIS. We encourage interested groups and individuals to attend and present oral comments on the draft EIS. A transcript of the meeting will be available for review in eLibrary under the project docket numbers. The meeting will begin at 7:00 p.m. and is scheduled as follows:

Date | Location
September 3, 2015 | Historic Cash and Carry Building, 801 Enterprise Boulevard, Lake Charles, Louisiana 70601, (337) 310-0405.

Any person seeking to become a party to the proceeding must file a motion to intervene pursuant to Rule 214 of the Commission's Rules of Practice and Procedures (Title 18 Code of Federal Regulations Part 385.214).¹ Only intervenors have the right to seek rehearing of the Commission's decision. The Commission grants affected landowners and others with environmental concerns intervenor status upon showing good cause by stating that they have a clear and direct interest in this proceeding that no other party can adequately represent. Simply filing environmental comments will not give you intervenor status, but you do not need intervenor status to have your comments considered.

¹ See the previous discussion on the methods for filing comments.

Questions?

Additional information about the project is available from the Commission's Office of External Affairs, at (866) 208-FERC, or on the FERC Web site (www.ferc.gov) using the eLibrary link. Click on the eLibrary link, click on “General Search,” and enter the docket number(s) excluding the last three digits in the Docket Number field (i.e., CP14-347 and CP14-511). Be sure you have selected an appropriate date range. For assistance, please contact FERC Online Support at FercOnlineSupport@ferc.gov or toll free at (866) 208-3676; for TTY, contact (202) 502-8659. The eLibrary link also provides access to the texts of formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. Go to www.ferc.gov/docs-filing/esubscription.asp.

Dated: July 17, 2015.
Kimberly D. Bose,
Secretary.

[FR Doc. 2015-18105 Filed 7-23-15; 8:45 am]

BILLING CODE 6717-01-P